SUSQUEHANNA RIVER BASIN COMMISSION

Actions Taken at December 12, 2013, Meeting

AGENCY: Susquehanna River Basin Commission.

ACTION: Notice.

SUMMARY: As part of its regular business meeting held on December 12, 2013, in Annapolis, Maryland, the Commission took the following actions: (1) approved or tabled the applications of certain water resources projects (one involving an into-basin diversion and one involving an out-of-basin diversion); and (2) took additional actions, as set forth in the Supplementary Information below.

DATES: December 12, 2013.

ADDRESSES: Susquehanna River Basin Commission, 4423 N. Front Street, Harrisburg, PA 17110-1788.

FOR FURTHER INFORMATION CONTACT: Richard A. Cairo, General Counsel, telephone: (717) 238-0423, ext. 1306; fax: (717) 238-2436; email: rcairo@srbc.net. Regular mail inquiries may be sent to the above address. See also Commission Web site at www.srbc.net.

SUPPLEMENTARY INFORMATION: In addition to the actions taken on projects identified in the summary above and the listings below, the following items were also presented or acted upon at the business meeting: (1) Heard a presentation from the Maryland Department of Natural Resources director Bruce Michael on the Federal Energy Regulatory Commission licensing for Conowingo; (2) adopted a resolution urging the President and Congress to provide full funding for the National Streamflow Information Program, thereby supporting the Susquehanna Flood Forecast & Warning System; (3) adopted the five-year update of the 2008 Comprehensive Plan for the Water Resources of the Susquehanna River Basin; (4) adopted a resolution on the sale of the former headquarters property at 1721 North Front Street, Harrisburg, Pa.; and 5) ratified one grant and one agreement.

Project Applications Approved

The Commission approved the following project applications:

1. Project Sponsor: Aqua Pennsylvania, Inc. Project Facility: Mifflin Township Water System, Mifflin Township, Columbia County, Pa. Renewal of groundwater withdrawal of up to 0.432 mgd (30-day average) from Mifflinville Well 3 (Docket No. 19960902).

2. Project Sponsor and Facility: Chesapeake Appalachia, LLC (Susquehanna River), Athens Township, Bradford County, Pa. Renewal of surface water withdrawal of up to 0.750 mgd (peak day) (Docket No. 20080906).

3. Project Sponsor and Facility: Energy Corporation of America (West Branch Susquehanna River), Goshen Township, Clearfield County, Pa. Renewal of surface water withdrawal of up to 2.000 mgd (peak day) (Docket No. 20091203).

4. Project Sponsor and Facility: LHP Management, LLC (Fishing Creek—Clinton Country Club), Bald Eagle Township, Clinton County, Pa. Renewal of surface water withdrawal of up to 0.999 mgd (peak day) (Docket No. 20090906).

5. Project Sponsor and Facility: Millersburg Area Authority, Upper Paxton Township, Dauphin County, Pa. Renewal of groundwater withdrawal of up to 0.173 mgd (30-day average) from Well 10 and groundwater withdrawal of up to 0.102 mgd (30-day average) from Well 11 (Docket No. 19830309).

6. Project Sponsor and Facility: New Holland Borough Authority, New Holland Borough, Lancaster County, Pa. Renewal of groundwater withdrawal of up to 0.400 mgd (30-day average) from Well 2 (Docket No. 19830501).

7. Project Sponsor and Facility: Southwestern Energy Production Company (Lycoming Creek—Bodines), Lewis Township, Lycoming County, Pa. Renewal of surface water withdrawal of up to 0.500 mgd (peak day) (Docket No. 20091207).

8. Project Sponsor and Facility: Southwestern Energy Production Company (Lycoming Creek—Ralston), McIntyre Township, Lycoming County, Pa. Renewal of surface water withdrawal of up to 0.500 mgd (peak day) (Docket No. 20091210).

9. Project Sponsor and Facility: Talisman Energy USA Inc. (Choconut Creek), Choconut Township, Susquehanna County, Pa. Surface water withdrawal of up to 0.999 mgd (peak day).

Project Application Approved Involving a Diversion:

The Commission approved the following project application:

1. Project Sponsor: Gettysburg Municipal Authority. Project Facility: Hunterstown Wastewater Treatment Plant, Straban Township, Adams County, Pa. Modification to increase authorized diversion to accommodate occasional power plant surge (Docket No. 20100916).

Project Applications Tabled:

The Commission tabled the following project applications:

1. Project Sponsor and Facility: Aqua Infrastructure, LLC (Tioga River), Hamilton Township, Tioga County, Pa. Application for surface water withdrawal of up to 2.500 mgd (peak day).

2. Project Sponsor and Facility: DS Waters of America, Inc., Clay Township, Lancaster County, Pa. Application for renewal of groundwater withdrawal of up to 0.115 mgd (30-day average) from Well 6 (Docket No. 20000203).

3. Project Sponsor: Gettysburg Municipal Authority. Project Facility: York Water Company Interconnection, Straban Township, Adams County, Pa. Application for consumptive water use of up to 3.000 mgd (peak day).

4. Project Sponsor and Facility: Houtzdale Municipal Authority, Gulich Township, Clearfield County, Pa. Application for groundwater withdrawal of up to 0.537 mgd (30-day average) from Well 14R.

5. Project Sponsor and Facility: Keystone Clearwater Solutions, LLC (Lycoming Creek), Lewis Township, Lycoming County, Pa. Modification to low flow protection requirements and authorization of additional water uses of the surface water withdrawal approval (Docket No. 20110616).

6. Project Sponsor: New Oxford Municipal Authority. Project Facility: Oxen Country Meadows, Oxford Township, Adams County, Pa. Application for groundwater withdrawal of up to 0.144 mgd (30-day average) from Oxen Country Meadows (OCM) Well 1.

7. Project Sponsor: Old Dominion Electric Cooperative. Project Facility: Rock Springs Expansion, Rising Sun District, Cecil County, Md. Application for consumptive water use of up to 7.900 mgd (peak day).

8. Project Sponsor and Facility: Old Dominion Electric Cooperative (Susquehanna River), Fulton Township, Lancaster County, Pa. Application for surface water withdrawal of up to 8.700 mgd (peak day).

9. Project Sponsor and Facility: Seneca Resources Corporation (Arnot No. 5 Mine Discharge), Bloss Township, Tioga County, Pa. Application for renewal of surface water withdrawal of up to 0.499 mgd (peak day) (Docket No. 20090908).

10. Project Sponsor and Facility: Talisman Energy USA Inc. (Fall Brook—C.O.P. Tioga State Forest), Ward Township, Tioga County, Pa. Application for renewal of surface water withdrawal of up to 0.999 mgd (peak day) (Docket No. 20091204).

11. Project Sponsor and Facility: Talisman Energy USA Inc. (Fellows Creek—C.O.P. Tioga State Forest), Ward Township, Tioga County, Pa. Application for renewal of surface water withdrawal of up to 0.999 mgd (peak day) (Docket No. 20091205).

12. Project Sponsor and Facility: York Water Company (Susquehanna River and South Branch Codorus Creek), Lower Windsor and Spring Garden Townships, York County, Pa. Modification to authorize supply of water to Gettysburg Municipal Authority through an interconnection, subject to receipt by Gettysburg Municipal Authority of an interbasin diversion approval (Docket No. 20021023).

Project Application Tabled Involving a Diversion:

The Commission tabled the following project application:

1. Project Sponsor: Gettysburg Municipal Authority. Project Facility: York Water Company Interconnection, Straban Township, Adams County, Pa. Application for an out-of-basin diversion of up to 3.000 mgd (peak day) to the Potomac River Basin.

Project Applications Withdrawn

The following project applications were withdrawn by the project sponsors:

1. Project Sponsor and Facility: WPX Energy Appalachia, LLC (Turner Lake), Liberty Township, Susquehanna County, Pa. Application for renewal of surface water withdrawal of up to 0.393 mgd (peak day) (Docket No. 20090601).

2. Project Sponsor and Facility: Winner Water Services, Inc. (Manor #44 Deep Mine), Girard Township, Clearfield County, Pa. Application for surface water withdrawal of up to 0.144 mgd (peak day).

Authority: Pub. L. 91-575, 84 Stat. 1509 et seq., 18 CFR Parts 806, 807, and 808.

Dated: January 24, 2014.
Stephanie L. Richardson,
Secretary to the Commission.

[FR Doc. 2014-01923 Filed 1-30-14; 8:45 am]

BILLING CODE 7040-01-P